DEPARTMENT OF ENERGY

Federal Energy Regulatory Commission

[Docket No. RP02-148-000]

Midwestern Gas Transmission Company; Notice of Proposed Changes in FERC Gas tariff

January 28, 2002.

Take notice that on January 18, 2002, Midwestern Gas Transmission Company (Midwestern) tendered for filing to become part of its FERC Gas Tariff, Third Revised Volume No. 1, the following tariff sheets to become effective March 1, 2002:

First Revised Sheet No. 236

First Revised Sheet No. 268

First Revised Sheet No. 269

Midwestern states that the purpose of this filing is to revise Subsections 6.2 and 25.2 of the General Terms and Conditions. Midwestern's currently effective tariff imposes interest charges on all late payments. Midwestern proposes to revise Subsection 6.2 to impose an interest charge for late payments on an invoice to the extent that the interest charge is $25 or more in a month. This proposed change will alleviate the administrative burden associated with interest charges on minor late payment amounts. Midwestern also proposes to revise Subsection 25.2 of the General Terms and Conditions, eliminating the prepayment requirement for all Shippers requesting firm service under Rate Schedule FT-A including released transportation service. Current industry practices do not require prepayments for shippers requesting new service.

Midwestern states that copies of this filing have been sent to all of Midwestern's shippers and interested state regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C. B. Spencer,
Acting Secretary.

[FR Doc. 02-2481 Filed 1-31-02; 8:45 am]

BILLING CODE 6717-01-P